DEPARTMENT OF DEFENSE

48 CFR Parts 219 and 252

[DFARS Case 2001-D016]

Defense Federal Acquisition Regulation Supplement; Partnership Agreement Between DoD and the Small Business Administration

AGENCY: Department of Defense (DoD).

ACTION: Final rule.

SUMMARY: DoD has adopted as final, with minor changes, an interim rule amending the Defense Federal Acquisition Regulation Supplement (DFARS) to implement a partnership agreement between DoD and the Small Business Administration (SBA). The partnership agreement streamlines procedures for contract awards under SBA's 8(a) Program.

EFFECTIVE DATE: July 30, 2002.

FOR FURTHER INFORMATION CONTACT: Ms. Angelena Moy, Defense Acquisition Regulations Council, OUSD (AT&L) DP (DAR), IMD 3C132, 3062 Defense Pentagon, Washington, DC 20301-3062. Telephone (703) 602-1302; facsimile (703) 602-0350. Please cite DFARS Case 2001-D016.

SUPPLEMENTARY INFORMATION:

A. Background

DoD published an interim rule at 67 FR 11435 on March 14, 2002, to implement a partnership agreement between DoD and SBA. The partnership agreement permits DoD to award 8(a) contracts directly to 8(a) concerns, on behalf of SBA. DoD received one comment on the interim rule, and that comment was in support of the rule. Therefore, DoD is adopting the interim rule as a final rule with only minor editorial changes.

This rule was not subject to Office of Management and Budget review under Executive Order 12866, dated September 30, 1993.

B. Regulatory Flexibility Act

DoD certifies that this final rule will not have a significant economic impact on a substantial number of small entities within the meaning of the Regulatory Flexibility Act, 5 U.S.C. 601, et seq., because the rule affects only the administrative procedures used for award of contracts under the 8(a) Program.

C. Paperwork Reduction Act

The Paperwork Reduction Act does not apply because the rule does not impose any information collection requirements that require the approval of the Office of Management and Budget under 44 U.S.C. 3501, et seq.

List of Subjects in 48 CFR Parts 219 and 252

Government procurement.

Michele P. Peterson,
Executive Editor, Defense Acquisition Regulations Council.

Interim Rule Adopted as Final With Changes

Accordingly, the interim rule amending 48 CFR Parts 219 and 252, which was published at 67 FR 11435 on March 14, 2002, is adopted as a final rule with the following changes:

1. The authority citation for 48 CFR Parts 219 and 252 continues to read as follows:

Authority: 41 U.S.C. 421 and 48 CFR Chapter 1.

PART 219—SMALL BUSINESS PROGRAMS

219.804-2 [Amended]

2. Section 219.804-2 is amended by removing “must” and adding, in its place, “shall” in the following places:

a. Paragraph (1) introductory text, in the first and last sentences;

b. Paragraph (1)(ii)(A);

c. Paragraph (2) introductory text, twice in the second sentence and once in the last sentence;

d. Paragraph (2)(ii), in the last sentence; and

e. Paragraph (3), in the first and last sentences.

219.806 [Amended]

3. Section 219.806 is amended in paragraph (1) and in the last sentence of paragraph (2) by removing “must” and adding in its place “shall”.

219.811-1 [Amended]

4. Section 219.811-1 is amended in paragraph (a), in the first, second, and last sentences, by removing “must” and adding in its place “shall”.

219.811-2 [Amended]

5. Section 219.811-2 is amended by removing “must” and adding in its place “shall”.

[FR Doc. 02-19082 Filed 7-29-02; 8:45 am]

BILLING CODE 5001-08-P